DEPARTMENT OF COMMERCE

Foreign-Trade Zones Board

[B-7-2023]

Foreign-Trade Zone (FTZ) 129; Authorization of Production Activity; Corvus Energy USA, Ltd.; (Lithium-Ion Battery Energy Storage Systems); Bellingham, Washington

On January 12, 2023, Corvus Energy USA, Ltd. submitted a notification of proposed production activity to the FTZ Board for its facility within Subzone 129C, in Bellingham, Washington.

The notification was processed in accordance with the regulations of the FTZ Board (15 CFR part 400), including notice in the Federal Register inviting public comment (88 FR 4806, January 25, 2023). On May 12, 2023, the applicant was notified of the FTZ Board's decision that no further review of the activity is warranted at this time. The production activity described in the notification was authorized, subject to the FTZ Act and the FTZ Board's regulations, including section 400.14.

Dated: May 12, 2023.
Elizabeth Whiteman,
Executive Secretary.

[FR Doc. 2023-10580 Filed 5-17-23; 8:45 am]

BILLING CODE 3510-DS-P